DEPARTMENT OF COMMERCE

National Oceanic and Atmospheric Administration

[RTID 0648-XD916]

Schedule for Atlantic Highly Migratory Species Outreach Workshops

AGENCY: National Marine Fisheries Service (NMFS), National Oceanic and Atmospheric Administration (NOAA), Commerce.

ACTION: Notice of public outreach workshops.

SUMMARY: Five free Atlantic Highly Migratory Species (HMS) Outreach Workshops will be held from April 29, 2024 through May 3, 2024 in locations across Puerto Rico. These workshops are being offered to be responsive to stakeholder requests for additional outreach in Puerto Rico and U.S. Caribbean communities. The objectives of the HMS Outreach Workshops are to educate fishers, dealers, and the general public on HMS regulations, distribute outreach materials, and assist fishers in applying for HMS permits.

DATES: The HMS Outreach Workshops will be held April 29, 2024 through May 3, 2024. See the SUPPLEMENTARY INFORMATION section for the specific dates and times.

ADDRESSES: The HMS Outreach Workshops will be held in Aguadilla, Cabo Rojo, Ponce, Arecibo, and Dorado, Puerto Rico. See the SUPPLEMENTARY INFORMATION section for the specific locations.

FOR FURTHER INFORMATION CONTACT: Delisse Ortiz by email at delisse.ortiz@noaa.gov or by phone at 301-427-8530.

SUPPLEMENTARY INFORMATION: Atlantic HMS fisheries are managed under the 2006 Consolidated HMS Fishery Management Plan and its amendments pursuant to the Magnuson-Stevens Fishery Conservation and Management Act (16 U.S.C. 1801 et seq.) and consistent with the Atlantic Tunas Convention Act (16 U.S.C. 971 et seq.). HMS implementing regulations are at 50 CFR part 635.

Atlantic Highly Migratory Species Outreach Workshop

In recent years, HMS fisheries stakeholders, including fishers, dealers, and the general public, have requested that NMFS prioritize HMS fisheries management education and outreach in the U.S. Caribbean, specifically in Puerto Rico. To be responsive to stakeholder needs in Puerto Rico, NMFS is carrying out free HMS Outreach Workshops across five locations in Puerto Rico. The workshops are designed to educate fishers, dealers, and the general public on HMS regulations, distribute outreach materials, and assist fishers and dealers in applying for HMS permits. The increased engagement, outreach, and education in the U.S. Caribbean as a result of the HMS Outreach Workshops will help meet NMFS's goal of promoting sustainable fisheries and address key shark management outreach requests by our stakeholders in that region. These workshops are also consistent with NMFS's effort to encourage the involvement of disadvantaged or underserved communities consistent with Executive Orders 14008, 12898, and 13895.

Workshop Dates, Times, and Locations

1. April 29, 2024, 4 p.m.-6 p.m. AST, Anfiteatro Municipio de Aguadilla, Calle Ruiz Belvis, Aguadilla, PR, 00603.

2. April 30, 2024, 4:30 p.m.-6:30 p.m. AST, Boquerón Yacht Club/Club Náutico de Boquerón, 2RGF+GQ Cabo Rojo, PR 00623.

3. May 1, 2024, 4 p.m.-6 p.m. AST, Villa Pesquera La Guancha, 80 Avenida Padre Noel, Ponce, PR 00716.

4. May 2, 2024, 4:30 p.m.-6:30 p.m. AST, Villa Pesquera Jarealito, Barrio Jarealito Carretera #681, Arecibo, PR 00612.

5. May 3, 2024, 5:30 p.m.-7:30 p.m. AST, Club Náutico y Villa Pesquera, FPGC+8WJ, Calle Madre Perla, Dorado, PR, 00646.

Additional free HMS Outreach Workshops will be conducted in 2024 and will be announced in a future notice.

Authority: 16 U.S.C. 1801 et seq.

Dated: April 24, 2024.
Everett Wayne Baxter,
Acting Director, Office of Sustainable Fisheries, National Marine Fisheries Service.

[FR Doc. 2024-09138 Filed 4-26-24; 8:45 am]

BILLING CODE 3510-22-P